ENVIRONMENTAL PROTECTION AGENCY

[EPA-HQ-OPP-2006-0661; FRL-8111-4]

Chloropicrin Risk Assessments (Phase 3 of 6-Phase Process) Notice of Availability; Extension of Comment Period

AGENCY: Environmental Protection Agency (EPA).

ACTION: Notice; Extension of comment period.

SUMMARY: EPA issued a notice in the Federal Register of November 29, 2006 announcing the availability of EPA's human health and environmental fate and effects risk assessments and related documents for the fumigant, chloropicrin. The comment period for the notice ended on January 29, 2007. Subsequently, EPA extended the comment period until February 23, 2007. With this action, EPA is extending the comment period for an additional 5 days.

DATES: Comments, identified by Docket identification (ID) number EPA-HQ-OPP-2006-0661, must be received on or before February 28, 2007.

ADDRESSES: Follow the detailed instructions as provided under ADDRESSES in the Federal Register of November 29, 2006 (71 FR 69112).

FOR FURTHER INFORMATION CONTACT: Nathan Mottl, Special Review and Reregistration Division (7508P), Office of Pesticide Programs, Environmental Protection Agency, 1200 Pennsylvania Ave., NW., Washington, DC 20460-0001; telephone number: (703) 305-0208; e-mail address: mottl.nathan@epa.gov.

SUPPLEMENTARY INFORMATION:

I. General Information

A. Does this Action Apply to Me?

The Agency included in the notice of availability a list of those who may be potentially affected by this action. If you have questions regarding the applicability of this action to a particular entity, consult the person listed under FOR FURTHER INFORMATION CONTACT.

B. How Can I Get Copies of this Document and Other Related Information?

1. Docket. EPA has established a docket for this action under docket identification (ID) number EPA-HQ-OPP-2006-0061. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr/.

II. What Does this Action Do?

This notice is extending the comment period on EPA's notice of availability of human health and environmental fate and effects risk assessments and related documents for the fumigant, chloropicrin. The notice of availability was published in the Federal Register on November 29, 2006. The comment period for the notice of availability ended on January 29, 2007. Subsequently, EPA extended the comment period until February 23, 2007 (72 FR 3130, January 24, 2007). However, EPA had intended to give a full 90 days for those interested in commenting on these documents. Therefore, EPA is extending the comment period for an additional 5 days to allow for the full 90-day comment period. The comment period now ends on February 28, 2007.

III. What is the Agency's Authority for Taking this Action?

Section 4(g)(2) of Federal Insecticide, Fungicide, and Rodenticide Act (FIFRA), as amended, directs that, after submission of all data concerning a pesticide active ingredient, the Administrator shall determine whether pesticides containing such active ingredient are eligible for reregistration. Further provisions are made to allow a public comment period. However, the Administrator may extend the comment period, if additional time for comment is requested. In this case, several stakeholders have requested additional time to develop comments. The Agency believes that an additional 30 days is adequate.

List of Subjects

Environmental protection, Environmental Protection, Fumigants, Pesticides, and pests.

Dated: January 31, 2007.
Peter Caulkins,
Acting Director, Special Review and Reregistration Division, Office of Pesticide Programs.

[FR Doc. E7-2001 Filed 2-6-07; 8:45 am]

BILLING CODE 6560-50-S